CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a pre-clearance consultation program to provide the general public and federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed. Individuals who use a telecommunications device for the deaf (TTY-TDD) may call (202) 565-3472 between 8:30 a.m. and 5 p.m. eastern time, Monday through Friday.

Currently, the Corporation is soliciting comments concerning the Corporation Enrollment and Exit forms. Applicants will respond to the questions included in this ICR in order to enroll in the National Service Trust and document their exit from service.

Copies of the information collection request can be obtained by contacting the office listed in the ADDRESSES section of this notice.

DATES: Written comments must be submitted to the individual and office listed in the ADDRESSES section by June 14, 2010.

ADDRESSES: You may submit comments, identified by the title of the information collection activity, by any of the following methods:

(1) By mail sent to: Corporation for National and Community Service; Attention Amy Borgstrom, Associate Director for Policy, Room 9515; 1201 New York Avenue, NW., Washington, DC, 20525.

(2) By hand delivery or by courier to the Corporation's mailroom at Room 8100 at the mail address given in paragraph (1) above, between 9 a.m. and 4 p.m. Monday through Friday, except Federal holidays.

(3) By fax to: (202) 606-3476, Attention Amy Borgstrom, Associate Director for Policy.

(4) Electronically through the Corporation's e-mail address system: aborgstrom@cns.gov.

FOR FURTHER INFORMATION CONTACT: Amy Borgstrom, (202) 606-6930, or by e-mail at aborgstrom@cns.gov.

SUPPLEMENTARY INFORMATION:

The Corporation is particularly interested in comments that:

• Evaluate whether the proposed collection of information is necessary for the proper performance of the functions of the Corporation, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

The Corporation Enrollment form will be used by AmeriCorps members to enroll in the National Service Trust. The Corporation Exit Form will be used by AmeriCorps members and Learn and Serve America Summer of Service participants once they complete service to document completion of their term.

Current Action: The Corporation seeks to renew the current Corporation Member Enrollment and Exit Forms and add a new instrument for Learn and Serve America. The forms are identical to the current forms and will be used in the same manner. The Corporation also seeks to continue using the current forms until the revised forms are approved by OMB. The current forms are due to expire on July 31, 2010.

Type of Review: Renewal.

Agency: Corporation for National and Community Service.

Title: Corporation Enrollment and Exit Forms.

OMB Number: 3045-0006 (Enrollment) and 3045-0015 (Exit).

Agency Number: None.

Affected Public: AmeriCorps members and Summer of Service participants.

Total Respondents: 296,000.

Frequency: Ongoing.

Average Time per Response: 10 minutes

Estimated Total Burden Hours: 49,333 hours.

Total Burden Cost (capital/startup): None.

Total Burden Cost (operating/maintenance): None.

Comments submitted in response to this notice will be summarized and/or included in the request for Office of Management and Budget approval of the information collection request; they will also become a matter of public record.

Dated: April 7, 2010.
Lois Nembhard,
Acting Director, AmeriCorps State and National.

[FR Doc. 2010-8562 Filed 4-13-10; 8:45 am]

BILLING CODE 6050-$$-P